DEPARTMENT OF THE TREASURY

United States Mint

Notification of Citizens Coinage Advisory Committee 2005 Public Meetings

ACTION: Notification of Citizens Coinage Advisory Committee 2005 Public Meetings.

SUMMARY: Pursuant to Public Law 108-15, Sec. 103, the United States Mint announces the Citizens Coinage Advisory Committee (CCAC) meetings for the calendar year 2005. These meetings are open to the public. The purpose of these meetings is to advise the Secretary of the Treasury on designs pertaining to the coinage of the United States and for other purposes.

January 25, 2005—Washington, DC

March 15, 2005—Washington, DC

May 24, 2005—Washington, DC

July 28, 2005—San Jose, CA

September 27, 2005—Washington, DC

November 15, 2005—Washington, DC

The meeting times and locations will be announced at least 2 weeks prior to each meeting. Interested persons should call 202-354-7502 for the latest update on meeting time and location.

Public Law 108-15 established the CCAC to:

• Advise the Secretary of the Treasury on any theme or design proposals relating to circulating coinage, bullion coinage, congressional gold medals, and national and other medals.

• Advise the Secretary of the Treasury with regard to the events, persons, or places to be commemorated by the issuance of commemorative coins in each of the five calendar years succeeding the year in which a commemorative coin designation is made.

• Make recommendations with respect to the mintage level for any commemorative coin recommended.

FOR FURTHER INFORMATION CONTACT: Madelyn Simmons Marchessault; United States Mint Liaison to the CCAC; 801 Ninth Street, NW., Washington, DC 20220, or call 202-354-6669.

Any member of the public interested in submitting matters for the CCAC's consideration is invited to submit them by fax to the following number: 202-756-6830.

Authority: Public Law 108-15 (April 23, 2003)

Dated: December 20, 2004.
Henrietta Holsman Fore,
Director, United States Mint.

[FR Doc. 04-28140 Filed 12-23-04; 8:45 am]

BILLING CODE 4810-37-P